DEPARTMENT OF HEALTH AND HUMAN SERVICES

Centers for Disease Control and Prevention

[30Day-10-10CM]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

HIV/AIDS Risk Reduction Interventions for African American Heterosexual Men—New—National Center for HIV/AIDS, Viral Hepatitis, STD, and TB Prevention (NCHHSTP), Centers for Disease Control and Prevention (CDC).

Background and Brief Description

African Americans continue to be disproportionately affected by HIV/AIDS. Although they account for approximately 13 percent of the U.S. population, surveillance data indicate that in 2007, African Americans accounted for the majority (51 percent) of HIV/AIDS diagnoses in 34 states (CDC, 2009). When compared to other racial and ethnic groups, rates of heterosexually transmitted HIV are substantially higher among African Americans.

Presently, there is insufficient knowledge regarding African American heterosexual men's sexual risk behaviors and the context in which they occur. Increasing the number of evidence-based prevention interventions is a necessary requisite to decreasing HIV/AIDS among this target population. Thorough examinations of sexual risk behaviors and the context in which they occur is essential for developing effective HIV/AIDS prevention interventions and for informing policies and programs that will more effectively protect African American men and their partners from infection.

This research is being conducted by three sites to pilot test three unique HIV risk reduction interventions for feasibility, acceptability, and to provide preliminary evidence of intervention efficacy in reducing HIV risk behaviors. Findings from this research will also contribute knowledge on how to design culturally appropriate interventions for this target population.

The intervention evaluations are a pre-post test design (i.e. baseline assessment and 3-month follow-up assessment) with three convenience samples of African American heterosexual men, ages 18 to 45 living in New York and North Carolina.

Three sites will participate in this project. Each site will use a screener form to determine participant eligibility for inclusion in the study. Additionally, each site will use a locator form to collect contact information from participants so that staff can follow up to schedule future appointments. A baseline and three-month follow-up assessment will also be administered to participants enrolled at each site. The baseline and follow-up assessments will contain questions about the participants' socio-demographic background, sexual health, substance use, history of incarceration, HIV testing history, self-efficacy, perceptions of sex roles, HIV communication, access to healthcare, and intervention acceptability and feasibility. The pilot intervention evaluation will be conducted with 50 to 80 African American heterosexual men at each site. There is no cost to respondents other than their time. The total estimated burden hours are 335.

Estimated Annualized Burden Hours:

Type of respondent | Form name | Number of respondents | Number of responses per respondent | Average burden per response (in hours)
Potential Participants—Site A | Screener | 200 | 1 | 10/60
| Locator Form | 80 | 1 | 5/60
Enrolled Participants—Site A | Baseline Assessment | 80 | 1 | 20/60
| Follow-up Assessment | 80 | 1 | 20/60
Potential Participants—Site B | Screener | 214 | 1 | 10/60
Enrolled Participants—Site B | Locator Form | 80 | 1 | 5/60
| Baseline Assessment | 80 | 1 | 45/60
| Follow-up Assessment | 80 | 1 | 45/60
Potential Participants—Site C | Screener | 200 | 1 | 5/60
Enrolled Participants—Site C | Locator (Keep in Touch) Form | 80 | 1 | 5/60
| Baseline Assessment | 80 | 1 | 20/60
| Follow-up Assessment | 80 | 1 | 20/60

Dated: July 20, 2010.
Maryam I. Daneshvar,
Reports Clearance Officer,
Centers for Disease Control and Prevention.

[FR Doc. 2010-18288 Filed 7-26-10; 8:45 am]

BILLING CODE 4163-18-P